DEPARTMENT OF COMMERCE

National Oceanic and Atmospheric Administration

RIN 0648-XG177

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a meeting.

DATES: The meeting will be held on Tuesday, May 8, 2018, from 10 a.m. through 5 p.m. and on Wednesday, May 9, 2018, from 8:30 a.m. to 12:30 p.m. See SUPPLEMENTARY INFORMATION for agenda details.

ADDRESSES: The meeting will take place at the Admiral Fell Inn, 888 South Broadway, Baltimore, MD 21321; telephone: (410) 522-7380.

Council address: Mid-Atlantic Fishery Management Council, 800 N. State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is to make multi-year ABC recommendations for Atlantic Mackerel based on the results of the recently completed benchmark stock assessment. A review the most recent survey and fishery data and the currently implemented 2019 ABC for Butterfish, Illex, Longfin Squid, Surfclam and Ocean Quahog will also be conducted. The SSC will also receive and discuss the results of an SSC subcommittee review of the Northeast Fisheries Science Center clam dredge survey redesign. In addition, other topics the SSC may discuss include an update on the Marine Recreational Information Program (MRIP) Fishing Effort Survey transition and any other business as necessary.

A detailed agenda and background documents will be made available on the Council's website (www.mafmc.org) prior to the meeting.

Special Accommodations

These meetings are physically accessible to people with disabilities. Requests for sign language interpretation or other auxiliary aid should be directed to M. Jan Saunders, (302) 526-5251, at least 5 days prior to the meeting date.

Dated: April 17, 2018.
Tracey L. Thompson,
Acting Deputy Director, Office of Sustainable Fisheries, National Marine Fisheries Service.

[FR Doc. 2018-08343 Filed 4-19-18; 8:45 am]

BILLING CODE 3510-22-P